EXPORT-IMPORT BANK OF THE U.S.

[Public Notice 139]

Agency Information Collection Activities: Final Collection; Comment Request

AGENCY: Export-Import Bank of the U.S.

ACTION: Submission for OMB review and comments request.

FORM TITLE: Report of Premiums Payable for Financial Institutions Only (EIB 92-30).

SUMMARY: The Export-Import Bank of the United States (Ex-Im Bank), as a part of its continuing effort to reduce paperwork and respondent burden, invites the general public and other Federal Agencies to comment on the proposed information collection, as required by the Paperwork Reduction Act of 1995.

We have made the following changes to this application:

a. Under “Obligo Types” we have added “Financial Institution” as an option;

b. Under “Obligo Types” we have deleted “Eximbank Sole Risk” as an option;

c. Under “Terms” we have added “CAD or SDDP”;

d. Under “Terms” we have deleted “Sight Payments (non-letter of credit)”;

e. Under “Terms” we have changed “1-60 Days” to “1-30 Days” as an option;

f. Under “Terms” we have added “31-60 Days” as an option;

g. Under “Terms” we have changed “61-120 Days” to “61-90 Days” as an option; and

h. Under “Terms” we have added “91-120 Days” as an option.

Our customers will be able to submit this form on paper or electronically. The information collected enables the applicant to provide Ex-Im Bank with the information necessary to record custom utilization and management prospective insurance liability relative to risk premiums received.

DATES: Comments should be received on or before (60 days after publication) to be assured of consideration.

ADDRESSES: Comments may be submitted electronically on http://www.regulations.gov or by mail to Arnold Chow, Export-Import Bank of the United States, 811 Vermont Ave., NW., Washington, DC 20571.

SUPPLEMENTARY INFORMATION:

Titles and Form Number: EIB 92-30. Report of Premiums Payable for Financial Institutions Only.

OMB Number: 3048-0021.

Type of Review: Regular.

Need and Use: The information collected enables the applicant to provide Ex-Im Bank with the information necessary to record custom utilization and management prospective insurance liability relative to risk premiums received.

Affected Public: This form affects entities involved in the export of U.S. goods and services.

Annual Number of Respondents: 150.

Estimated Time per Respondent: 15 minutes.

Government Annual Burden Hours: 450.

Frequency of Reporting or Use: Monthly.

Sharon A. Whitt,
Agency Clearance Officer.

[FR Doc. 2010-3646 Filed 2-23-10; 8:45 am]

BILLING CODE 6690-01-P